DEPARTMENT OF HOMELAND SECURITY

Federal Emergency Management Agency

[Docket ID FEMA-2022-0002]

Final Flood Hazard Determinations

AGENCY: Federal Emergency Management Agency, Department of Homeland Security.

ACTION: Notice.

SUMMARY: Flood hazard determinations, which may include additions or modifications of Base Flood Elevations (BFEs), base flood depths, Special Flood Hazard Area (SFHA) boundaries or zone designations, or regulatory floodways on the Flood Insurance Rate Maps (FIRMs) and where applicable, in the supporting Flood Insurance Study (FIS) reports have been made final for the communities listed in the table below. The FIRM and FIS report are the basis of the floodplain management measures that a community is required either to adopt or to show evidence of having in effect in order to qualify or remain qualified for participation in the Federal Emergency Management Agency's (FEMA's) National Flood Insurance Program (NFIP).

DATES: The date of May 23, 2023 has been established for the FIRM and, where applicable, the supporting FIS report showing the new or modified flood hazard information for each community.

ADDRESSES: The FIRM, and if applicable, the FIS report containing the final flood hazard information for each community is available for inspection at the respective Community Map Repository address listed in the tables below and will be available online through the FEMA Map Service Center at https://msc.fema.gov by the date indicated above.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: The Federal Emergency Management Agency (FEMA) makes the final determinations listed below for the new or modified flood hazard information for each community listed. Notification of these changes has been published in newspapers of local circulation and 90 days have elapsed since that publication. The Deputy Associate Administrator for Insurance and Mitigation has resolved any appeals resulting from this notification.

This final notice is issued in accordance with section 110 of the Flood Disaster Protection Act of 1973, 42 U.S.C. 4104, and 44 CFR part 67. FEMA has developed criteria for floodplain management in floodprone areas in accordance with 44 CFR part 60.

Interested lessees and owners of real property are encouraged to review the new or revised FIRM and FIS report available at the address cited below for each community or online through the FEMA Map Service Center at https://msc.fema.gov.

The flood hazard determinations are made final in the watersheds and/or communities listed in the table below.

(Catalog of Federal Domestic Assistance No. 97.022, “Flood Insurance.”)

Michael M. Grimm,
Assistant Administrator for Risk Management, Federal Emergency Management Agency, Department of Homeland Security.

Community | Community map repository address
Brooks County, Georgia and Incorporated Areas
Docket No.: FEMA-B-2207
City of Morven | City Hall, 178 2nd Street, Morven, GA 31638.
City of Quitman | City Hall, 100 West Screven Street, Quitman, GA 31643.
Unincorporated Areas of Brooks County | Brooks County Office Building, 610 South Highland Road, Quitman, GA 31643.
Anderson County, Kentucky and Incorporated Areas
Docket No.: FEMA-B-2208
Unincorporated Areas of Anderson County | Anderson County Zoning Administration Office, 139 South Main Street, Lawrenceburg, Kentucky 40342.
Boyle County, Kentucky and Incorporated Areas
Docket No.: FEMA-B-2208
City of Perryville | City Hall, 314 East 2nd Street, Perryville, KY 40468.
Unincorporated Areas of Boyle County | Boyle County Courthouse, 321 West Main Street, Danville, KY 40422.
Bullitt County, Kentucky and Incorporated Areas
Docket No.: FEMA-B-2208
City of Lebanon Junction | City Hall, 271 Main Street, Lebanon Junction, KY, 40150.
Unincorporated Areas of Bullitt County | Bullitt County, Nina Mooney Courthouse Annex Building, 149 North Walnut Street, 3rd Floor, Shepherdsville, KY 40165.
Casey County, Kentucky and Incorporated Areas
Docket No.: FEMA-B-2208
Unincorporated Areas of Casey County | Casey County Court Clerk Office, 625 Campbellsville Street, Liberty, KY 42539.
Hardin County, Kentucky and Incorporated Areas
Docket No.: FEMA-B-2208
Unincorporated Areas of Hardin County | Hardin County Engineering Department, 150 North Provident Way, Suite 223, Elizabethtown, KY 42701.
LaRue County, Kentucky and Incorporated Areas
Docket No.: FEMA-B-2208
Unincorporated Areas of LaRue County | LaRue County Courthouse, 209 West High Street, Hodgenville, KY 42748.
Marion County, Kentucky and Incorporated Areas
Docket No.: FEMA-B-2208
City of Bradfordsville | City Hall, 202 West Main Street, Bradfordsville, KY 40009.
City of Lebanon | City Hall, 240 West Main Street, Lebanon, KY 40033.
City of Raywick | Marion County, Dave Ross Hourigan Government Center Building, 223 North Spalding Avenue, Suite 201, Lebanon, KY 40033.
Unincorporated Areas of Marion County | Marion County, Dave Ross Hourigan Government Center Building, 223 North Spalding Avenue, Suite 201, Lebanon, KY 40033.
Mercer County, Kentucky and Incorporated Areas
Docket No.: FEMA-B-2208
Unincorporated Areas of Mercer County | The Greater Harrodsburg/Mercer County Planning and Zoning Commission, 109 Short Street, Number 1, Harrodsburg, KY 40330.
Nelson County, Kentucky and Incorporated Areas
Docket No.: FEMA-B-2208
City of Bardstown | Nelson County Old Courthouse, 1 Court Square, Bardstown, KY 40004.
City of New Haven | Nelson County Old Courthouse, 1 Court Square, Bardstown, KY 40004.
Unincorporated Areas of Nelson County | Nelson County Old Courthouse, 1 Court Square, Bardstown, KY 40004.
Washington County, Kentucky and Incorporated Areas
Docket No.: FEMA-B-2208
City of Springfield | City Hall, 127 West Main Street, Springfield, KY 40069.
Unincorporated Areas of Washington County | Washington County Judicial Center, 109 North Cross Main Street, Springfield, KY 40069.
Caroline County, Virginia and Incorporated Areas
Docket No.: FEMA-B-2189
Town of Bowling Green | Town Hall, 117 Butler Street, Bowling Green, VA 22427.
Town of Port Royal | Town Hall, 419 King Street, Port Royal, VA 22535.
Unincorporated Areas of Caroline County | Caroline County Planning and Building Department, 233 West Broaddus Avenue, Bowling Green, VA 22427.
Iron County, Wisconsin and Incorporated Areas
Docket No.: FEMA-B-2114
City of Hurley | City Hall, 405 5th Avenue North, Hurley, WI 54534.
City of Montreal | City Hall, 54 Wisconsin Avenue, Montreal, WI 54550.
Unincorporated Areas of Iron County | Iron County Comprehensive Planning, Land and Zoning Department, 300 Taconite Street, Suite 115, Hurley, WI 54534.

[FR Doc. 2022-27747 Filed 12-20-22; 8:45 am]

BILLING CODE 9110-12-P